DEPARTMENT OF TRANSPORTATION

Federal Aviation Administration

Approval of Noise Compatibility Program for Willow Run Airport, Ypsilanti, Michigan

AGENCY: Federal Aviation Administration (FAA), DOT.

ACTION: Notice.

SUMMARY: The FAA announces its findings on the noise compatibility program submitted by the City of Ypsilanti, Michigan under the provisions of 49 U.S.C. 47501 et seq. (formerly the Aviation Safety and Noise Abatement Act, hereinafter referred to as “the Act”) and 14 CFR Part 150 (hereinafter referred to as “Part 150”). On January 15, 2014, the FAA determined that the noise exposure maps submitted by the City of Ypsilanti, Michigan under Part 150 were in compliance with applicable requirements. On May 20, 2014 the FAA approved the Willow Run Airport noise compatibility program. This is the first Record of Approval (ROA) for the YIP NCP, which included nine measures recommended for approval. No program elements relating to new or revised flight procedures for noise abatement were proposed by the airport operator.

DATES: This notice is effective June 9, 2014, and is applicable beginning May 20, 2014.

FOR FURTHER INFORMATION CONTACT: Mr. Ernest P. Gubry, 11677 S. Wayne Road, Suite 107, Romulus, Michigan; Email: Ernest.Gubry@faa.gov; Phone: 734-229-2900. Documents reflecting this FAA action may be reviewed, upon appointment during normal business hours, at this location.

SUPPLEMENTARY INFORMATION: This notice announces that the FAA has made a determination on each measure in the Noise Compatibility Program for Willow Run Airport, effective May 20, 2014.

Under section 47504 of the Act, an airport operator who has previously submitted a Noise Exposure Map may submit to the FAA a Noise Compatibility Program which sets forth the measures taken or proposed by the airport operator for the reduction of existing non-compatible land uses and prevention of additional non-compatible land uses within the area covered by the Noise Exposure Maps. The Act requires such programs to be developed in consultation with interested and affected parties including local communities, government agencies, airport users, and FAA personnel.

Each airport noise compatibility program developed in accordance with Part 150 is a local program, not a Federal program. The FAA does not substitute its judgment for that of the airport proprietor with respect to which measures should be recommended for action. The FAA's approval or disapproval of Part 150 program recommendations is measured according to the standards expressed in Part 150 and the Act and is limited to the following determinations:

a. The Noise Compatibility Program was developed in accordance with the provisions and procedures of Part 150;

b. Program measures are reasonably consistent with achieving the goals of reducing existing non-compatible land uses around the airport and preventing the introduction of additional non-compatible land uses;

c. Program measures would not create an undue burden on interstate or foreign commerce, unjustly discriminate against types or classes of aeronautical uses, violate the terms of airport grant agreements, or intrude into areas preempted by the Federal Government; and

d. Program measures relating to the use of flight procedures can be implemented within the period covered by the program without derogating safety, adversely affecting the efficient use and management of the navigable airspace and air traffic control systems, or adversely affecting other powers and responsibilities of the Administrator prescribed by law.

Specific limitations with respect to FAA's approval of an airport noise compatibility program are delineated in Part 150, section 150.5. Approval is not a determination concerning the acceptability of land uses under Federal, state, or local law. Approval does not by itself constitute an FAA implementing action. A request for Federal action or approval to implement specific noise compatibility measures may be required. Prior to an FAA decision on a request to implement the action, an environmental review of the proposed action may be required. Approval does not constitute a commitment by the FAA to financially assist in the implementation of the program nor a determination that all measures covered by the program are eligible for grant-in-aid funding from the FAA under applicable law contained in Title 49 U.S.C. Where federal funding is sought, requests for project grants must be submitted to the FAA Airports District Office in Romulus, Michigan.

The Willow Run Airport study contains a proposed noise compatibility program comprised of actions designed for phased implementation by airport management and adjacent jurisdictions from 2012 to the year 2018. It was requested that the FAA evaluate and approve this material as a Noise Compatibility Program as described in section 47504 of the Act. The FAA began its review of the program on January 15, 2014 and was required by a provision of the Act to approve or disapprove the program within 180 days (other than the use of new or modified flight procedures for noise control). Failure to approve or disapprove such program within the 180-day period shall be deemed to be an approval of such program.

The submitted program contained nine (9) proposed actions for noise abatement, noise mitigation, land use planning and program management on and off the airport. The FAA completed its review and determined that the procedural and substantive requirements of the Act and Part 150 have been satisfied. The overall program was approved by the FAA, effective May 20, 2014.

These determinations are set forth in detail in a Record of Approval signed by the Great Lakes Airports Division Manager on May 20, 2014. The Record of Approval, as well as other evaluation materials and the documents comprising the submittal, are available for review, upon appointment during normal business hours, at the FAA office listed above and at the administrative offices of the Willow Run Airport, 801 Willow Run Airport, Ypsilanti, MI 48198.

The Record of Approval will also be available on-line at: http://www.faa.gov/airports/environmental/airport_noise/.

Issued in Romulus, Michigan, on May 20, 2014.
John L. Mayfield, Jr.,
Manager, Detroit Airports District Office.

[FR Doc. 2014-13372 Filed 6-6-14; 8:45 am]

BILLING CODE 4910-13-P